ENVIRONMENTAL PROTECTION AGENCY

[FRL-7007-7]

Agency Information Collection Activities: Submission for OMB Review; Comment Request; New Source Performance Standards (NSPS) for Sewage Treatment Plants

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: New Source Performance Standards (NSPS) for Sewage Treatment Plants, Subpart O; OMB Control No. 2060-0035; EPA ICR No. 1063.08; expiration date June 30, 2001. The ICR describes the nature of the information collection and its expected burden and cost; where appropriate, it includes the actual data collection instrument.

DATES: Comments must be submitted on or before August 6, 2001.

ADDRESSES: Send comments, referencing EPA ICR No. 1063.08 and OMB Control No. 2060-0035, to the following addresses: Sandy Farmer, U.S. Environmental Protection Agency, Collection Strategies Division (Mail Code 2822), 1200 Pennsylvania Avenue, NW., Washington, DC 20460-0001; and to Office of Information and Regulatory Affairs, Office of Management and Budget (OMB), Attention: Desk Officer for EPA, 725 17th Street, NW., Washington, DC 20503.

FOR FURTHER INFORMATION CONTACT: For a copy of the ICR contact Sandy Farmer at EPA by phone at (202) 260-2740, by E-Mail at Farmer.Sandy@epamail.epa.gov or download off the Internet at http://www.epa.gov/icr and refer to EPA ICR No. 1063.08. For technical questions about the ICR contact Kelli A. Smith at (202) 564-2257.

SUPPLEMENTARY INFORMATION Title: New Source Performance Standards (NSPS) for Sewage Treatment Plants, Subpart O (OMB Control No. 2060-0035; EPA ICR No. 1063.08) expiring June 30, 2001. This is a request for extension of a currently approved collection.

Abstract: This ICR contains recordkeeping and reporting requirements that are mandatory for compliance with 40 CFR part 60.150, et. seq., Subpart O, New Source Performance Standards for sewage sludge treatment plant incinerators.

The control of emissions of particulate matter from sewage treatment plant incinerators requires not only the installation of properly designed equipment, but also the operation and maintenance of that equipment. Particulate matter emissions from sewage treatment plant incinerators are the result of the physical and chemical characteristics of the sludge feed and fuel use, the excess air rate, the temperature profile within the incinerator, the pressure drop across the control device, and operating procedures. These standards rely on the reduction of particulate matter emissions by wet scrubbers.

In order to ensure compliance with these standards, adequate recordkeeping is necessary. In the absence of such information, enforcement personnel would be unable to determine whether the standards, that are protective of public health, are being met on a continuous basis, as required by the Clean Air Act.

These standards require initial notification reports with respect to construction, modification, reconstruction, startups, shutdowns, and malfunctions. The standards also require reports on initial performance tests and semiannual reports of noncompliance.

Under the standard, the data collected by the affected industry is retained at the facility for a minimum of two (2) years and made available for inspection by the Administrator.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on September 15, 2000 (65 FR 55955); no comments were received.

Burden Statement: The annual public reporting and recordkeeping burden for this collection of information is estimated to average 31 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Owners/Operators Sewage Sludge Treatment Plants.

Estimated Number of Respondents: 154.

Frequency of Response: semi-annually.

Estimated Total Annual Hour Burden: 9,089.

Estimated Total Annualized Capital, O &M Cost Burden: $5,845,000.

Send comments on the Agency's need for this information, the accuracy of the provided burden estimates, and any suggested methods for minimizing respondent burden, including through the use of automated collection techniques to the following addresses. Please refer to EPA ICR No. 1063.08 and OMB Control No. 2060-0035 in any correspondence.

Dated: June 27, 2001.
Oscar Morales,
Director, Collection Strategies Division.

[FR Doc. 01-16946 Filed 7-5-01; 8:45 am]

BILLING CODE 6560-50-P